SOCIAL SECURITY ADMINISTRATION

[Docket No. SSA-2022-0064]

Guaranteed Income Financial Treatment Trial (GIFTT)

AGENCY: Social Security Administration.

ACTION: Notice.

SUMMARY: We are announcing a demonstration project for the Social Security Supplemental Security Income (SSI) program under title XVI of the Social Security Act (Act). In this project, we will test the effect of providing guaranteed income to adults with cancer in active treatment to learn about its interaction with the SSI program. We will modify the program rules that apply to certain project participants who apply for and who already receive SSI payments under the title XVI program.

DATES: We plan to begin this project in March 2023 and end it in April 2030.

FOR FURTHER INFORMATION CONTACT: Debra Engler, Office of Retirement and Disability Policy, Social Security Administration, 6401 Security Boulevard, Baltimore, MD 21235, 443-729-6727. For information on eligibility or filing for benefits, call our national toll-free number, 1-800-772-1213 or TTY 1-800-325-0778, or visit our internet site, Social Security Online, at https://www.socialsecurity.gov.

SUPPLEMENTARY INFORMATION:

Guaranteed Income Financial Treatment Trial (GIFTT)

Under the GIFTT, we will test the effect of providing guaranteed income payments to adults with cancer in active treatment. We are conducting this project under section 1110 of the Social Security Act, which provides the Commissioner the authority to carry out demonstrations which are likely to assist in promoting the objectives or facilitating the administration of title XVI. This test will inform how providing a level of guaranteed income interacts with the SSI program and its effects on individuals with cancer who may apply for and already receive SSI. We will also analyze participant outcomes related to their SSI payments, earnings, and mortality.

We have a cooperative agreement with the University of Pennsylvania and Humanity Forward Foundation to implement and evaluate the GIFTT. For the evaluation, we will modify the program rules that apply to certain project participants and provide aggregated data that will compare outcomes between intervention group and control group participants with regard to benefits, earnings, and mortality. One Family Foundation will fund the guaranteed income payments. Humanity Forward Foundation will administer the guaranteed income payments and benefits counseling. The University of Pennsylvania will recruit participants and conduct the surveys and evaluation.

Potential participants are adults with cancer in active treatment. All participants must have an annual household income at or below 200 percent of the Federal Poverty Line. The adults with cancer are individuals who are in treatment at Jefferson Health or Penn Abramson Comprehensive Cancer Center ¹ and who reside in one of the following counties:

¹ Other adults with cancer who reside in the listed counties but who receive treatment from other cancer centers are also eligible for the GIFTT if they meet the other eligibility criteria (are in active treatment and have household income at or below 200 percent of the Federal Poverty Line).

• Pennsylvania: Philadelphia (to include City of Philadelphia), Montgomery, Delaware, Upper Darby, Chester, Berks, Lancaster, Bucks, Lehigh, Northampton.

• New Jersey: Burlington, Camden, Gloucester, Salem, Mercer, Hunterdon, Warren.

The University of Pennsylvania expects to recruit up to 600 individuals to participate in the GIFTT. Participation is voluntary and individual participants will sign an informed consent. The University of Pennsylvania will randomly assign participants to a control group or an intervention group. The control group consists of participants who will not receive guaranteed income payments; they will receive the typical supports available to patients with cancer at their hospital, including a referral to a social worker or navigator. The intervention group consists of participants who will receive guaranteed income payments of $1,000 per month for 12 months, along with benefits counseling.

Under title XVI of the Act, we make SSI payments to persons who are aged, blind, or disabled, and who also have limited income and resources. We expect some participants in the GIFTT will apply for or already receive SSI payments. We will apply the alternate rules, as described below, to those participants in the intervention group who consent to sharing their data with us in the informed consent. All participants can withdraw from the project at any time. We will apply all usual program rules to all applicable participants three years after the receipt of their final guaranteed income payment.

Provisions of the Act and Regulations We Are Waiving To Provide Alternate Rules Under the GIFTT

The following alternate program rules will apply to those who apply for and those who already receive SSI that are assigned to the intervention group during participation in the GIFTT and consent to share data with SSA:

• Exclusion of the guaranteed income payments as income when determining eligibility and payments;

• Exclusion of guaranteed income as resources during the 12-month payment period plus a period of up to three years after receipt of the final guaranteed income payment; and

• Protection of the household from offsetting SSI payments and resource limits because of guaranteed income payments. When deeming rules apply, guaranteed income payments will be excluded from income and resources. The limitation on resources will be removed with respect to guaranteed income payments.

Applying these alternate rules involves waiving or altering certain provisions included in sections 1611(a)(1)(B), (a)(2)(B), (a)(3)(A), 1612(a)(2), 1614(f)(1), (f)(2)(A) of the Act and 20 CFR 416.1102, 416.1123, 416.1160, 416.1163, 416.1165, 416.1201, 416.1202, 416.1205, 416.1207.

Authority for the Waivers Under GIFTT

Section 1110(b) of the Act authorizes us to waive any requirements, conditions, or limitations of title XVI necessary to carry out demonstration projects. Consistent with the requirements in section 1110(b)(2)(B) of the Act, participation in the GIFTT is voluntary and based on informed consent, and the voluntary agreement to participate may be withdrawn by the participant at any time.

The Acting Commissioner of the Social Security Administration, Kilolo Kijakazi, Ph.D., M.S.W., having reviewed and approved this document, is delegating the authority to electronically sign this document to Faye I. Lipsky, who is the primary Federal Register Liaison for the Social Security Administration, for purposes of publication in the Federal Register.

Faye I. Lipsky,
Federal Register Liaison, Office of Legislation and Congressional Affairs, Social Security Administration.

[FR Doc. 2023-06706 Filed 3-30-23; 8:45 am]

BILLING CODE 4191-02-P